DEPARTMENT OF COMMERCE

National Institute of Standards and Technology

[Docket Number: 240430-0122]

Request for Comments on Draft Documents Responsive to NIST's Assignments Under Executive Order 14110 (Sections 4.1, 4.5, and 11)

AGENCY: National Institute of Standards and Technology (NIST), Commerce.

ACTION: Notice; request for comments.

SUMMARY: The National Institute of Standards and Technology (NIST) requests comments on four draft documents responsive to NIST assignment under Executive Order 14110 on Safe, Secure, and Trustworthy Development and Use of Artificial Intelligence (AI) issued on October 30, 2023 (E.O. 14110): NIST AI 600-1, Artificial Intelligence Risk Management Framework: Generative Artificial Intelligence Profile; NIST SP 800-218A, Secure Software Development Practices for Generative AI and Dual-Use Foundation Models; NIST AI 100-5, A Plan for Global Engagement on AI Standards; and NIST AI 100-4, Reducing Risks Posed by Synthetic Content: An Overview of Technical Approaches to Digital Content Transparency.

DATES: Comments containing information in response to this notice must be received on or before June 2, 2024 at 11:59 p.m. Eastern Time. Submissions received after that date may not be considered.

ADDRESSES: The drafts of NIST AI 600-1, NIST AI 100-5, and NIST AI 100-4 are available for review and comment on the NIST Artificial Intelligence Resource Center website at https://airc.nist.gov and at www.regulations.gov under docket number NIST-2024-0001. The draft of NIST SP 800-218A is available for review and comment on the NIST Computer Security Resource Center https://csrc.nist.gov and at www.regulations.gov under docket number NIS-2024-0001.

Comments may be submitted by either of the following methods:

By email:

• Comments on NIST AI 600-1 may be sent electronically to NIST-AI-600-1@nist.gov with “NIST AI 600-1, Artificial Intelligence Risk Management Framework: Generative Artificial Intelligence Profile” in the subject line. Comments on NIST AI 100-5 may be sent electronically to NIST-AI-100-5@nist.gov with “NIST AI 100-5, A Plan for Global Engagement on AI Standards” in the subject line. Comments on NIST SP 800-218A may be sent electronically to SSDF@nist.gov with “NIST SP 800-218A, Secure Software Development Practices for Generative AI and Dual-Use Foundation Models” in the subject line. Comments on NIST AI 100-4 may be sent electronically to NIST-AI-100-4@nist.gov with “NIST AI 100-4, Reducing Risks Posed by Synthetic Content: An Overview of Technical Approaches to Digital Content Transparency”. Electronic submissions may be sent as an attachment in any of the following unlocked formats: HTML; ASCII; Word; RTF; or PDF.

Submitted via www.regulations.gov:

• To submit electronic public comments via the Federal eRulemaking Portal.

1. Go to www.regulations.gov and enter NIST-2024-0001 in the search field,

2. Click the “Comment Now!” icon, complete the required fields, including the relevant NIST document number and title in the subject field, and

3. Enter or attach your comments.

• Written comments may also be submitted by mail to Information Technology Laboratory, ATTN: AI E.O. Document Comments, National Institute of Standards and Technology, 100 Bureau Drive, Mail Stop 8900, Gaithersburg, MD 20899-8900.

Comments containing references, studies, research, and other empirical data that are not widely published should include copies of the referenced materials. All submissions, including attachments and other supporting materials, will become part of the public record and subject to public disclosure.

NIST will not accept comments accompanied by a request that part or all of the material be treated confidentially because of its business proprietary nature or for any other reason. Therefore, do not submit confidential business information or otherwise sensitive, protected, or personal information, such as account numbers, Social Security numbers, or names of other individuals.

All relevant comments received by the deadline will be posted at https://www.regulations.gov under docket number NIST-2024-0001 and at https://www.nist.gov/artificial-intelligence/executive-order-safe-secure-and-trustworthy-artificial-intelligence. Attachments and other supporting materials may become part of the public record and may be subject to public disclosure.

FOR FURTHER INFORMATION CONTACT: For questions about this request for comments contact: ai-inquiries@nist.gov or Rachel Trello, National Institute of Standards and Technology, 100 Bureau Drive, Stop 8900, Gaithersburg, MD 20899, (202) 570-3978. Direct media inquiries to NIST's Office of Public Affairs at (301) 975-2762. Users of telecommunication devices for the deaf, or a text telephone, may call the Federal Relay Service toll free at 1-800-877-8339. Accessible Format: NIST will make the request for comments available in alternate formats, such as Braille or large print, upon request by persons with disabilities.

SUPPLEMENTARY INFORMATION: NIST requests comments on four draft NIST documents that have been developed in response to NIST assignments under Executive Order 14110 on Safe, Secure, and Trustworthy Development and Use of Artificial Intelligence (AI) (E.O. 14110), issued on October 30, 2023 (88 FR 75191). The four draft documents are: NIST AI 600-1, Artificial Intelligence Risk Management Framework: Generative Artificial Intelligence Profile; NIST SP 800-218A, Secure Software Development Practices for Generative AI and Dual-Use Foundation Models; NIST AI 100-5, A Plan for Global Engagement on AI Standards; and NIST AI 100-4, Reducing Risks Posed by Synthetic Content: An Overview of Technical Approaches to Digital Content Transparency.

The drafts of NIST AI 600-1, NIST AI 100-5, and NIST AI 100-4 were informed by responses to a Request for Information (RFI) that was published in the Federal Register on December 21, 2023 (88 FR 88368), in which NIST requested information to assist in carrying out several of its responsibilities under E.O. 14110. The comments and information received in response to that RFI are available at https://www.nist.gov/artificial-intelligence/executive-order-safe-secure-and-trustworthy-artificial-intelligence/comments and at https://www.regulations.gov under docket number NIST-2023-0009. The draft of NIST SP 800-218A was informed by a virtual workshop that was held on January 17, 2024 (https://www.nist.gov/news-events/events/nist-secure-software-development-framework-generative-ai-and-dual-use-foundation).

The drafts of NIST AI 600-1, NIST AI 100-5, and NIST AI 100-4 are available for review and comment on the NIST Artificial Intelligence Resource Center website at https://airc.nist.gov and at www.regulations.gov. The draft of NIST SP 800-218A is available for review and comment on the NIST Computer Security Resource Center https://csrc.nist.gov and at www.regulations.gov.

Authority: Executive Order 14110 of Oct. 30, 2023; 15 U.S.C. 272.

Alicia Chambers,
NIST Executive Secretariat.

[FR Doc. 2024-09824 Filed 5-6-24; 8:45 am]

BILLING CODE 3510-13-P